COMMODITY FUTURES TRADING COMMISSION

Agency Information Collection Activities Under OMB Review

AGENCY: Commodity Futures Trading Commission.

ACTION: Notice.

SUMMARY: In compliance with the Paperwork Reduction Act of 1995 (“PRA”), this notice announces that the information collection request abstracted below has been forwarded to the Office of Information and Regulatory Affairs (“OIRA”), of the Office of Management and Budget (“OMB”), for review and comment. The information collection request describes the nature of the information collection and its expected costs and burden.

DATES: Comments must be submitted on or before May 27, 2022.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://www.reginfo.gov as indicated above, a copy of all comments submitted to OIRA may also be submitted to the Commodity Futures Trading Commission (the “Commission” or “CFTC”) by clicking on the “Submit Comment” box next to the descriptive entry for these collections, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments submitted to the Commission should include only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Jacob Chachkin, Associate Chief Counsel, Market Participants Division, Commodity Futures Trading Commission, (202) 418-5496; email: jchachkin@cftc.gov.

SUPPLEMENTARY INFORMATION: Title: Confirmation, Portfolio Reconciliation, Portfolio Compression, and Swap Trading Relationship Documentation Requirements for Swap Dealers and Major Swap Participants (OMB Control Nos. 3038-0068, 3038-0083, 3038-0088). This is a request for an extension of currently approved information collections.²

² An agency may not conduct or sponsor, and a person is not required to respond to, a collection of information unless it displays a currently valid OMB conrol number. See 46 FR 63035 (Dec. 30, 1981).

Abstract: On September 11, 2012 the Commission adopted Commission Regulations 23.500-23.505 (Confirmation, Portfolio Reconciliation, Portfolio Compression, and Swap Trading Relationship Documentation Requirements for Swap Dealers and Major Swap Participants) ³ under sections 4s(f), (g) and (i) ⁴ of the Commodity Exchange Act (“CEA”). Commission regulations 23.500-23.505 require, among other things, that swap dealers (“SDs”) ⁵ and major swap participants (“MSPs”) ⁶ develop and retain written swap trading relationship documentation. The regulations also establish requirements for SDs and MSPs regarding swap confirmation, portfolio reconciliation, and portfolio compression. Under the regulations, SDs and MSPs are obligated to maintain records of the policies and procedures required by the rules.⁷

³ 17 CFR 23.500-23.505.

⁴ 7 U.S.C. 6s(f), (g) & (i).

⁵ For the definition of SD, see Section 1a(49) of the CEA and Commission regulation 1.3; 7 U.S.C. 1a(49) and 17 CFR 1.3.

⁶ For the definitions of MSP, see Section 1a(33) of the CEA and Commission regulation 1.3; 7 U.S.C. 1a(33) and 17 CFR 1.3.

⁷ SDs and MSPs are required to maintain all records of policies and procedures in accordance with Commission regulations 23.203 and, by extension, 1.31, including policies, procedures, and models used for eligible master netting agreements and custody agreements that prohibit custodian of margin from re-hypothecating, repledging, reusing, or otherwise transferring the funds held by the custodian. See 17 CFR 1.31 and 23.203.

Confirmation, portfolio reconciliation, and portfolio compression are important post-trade processing mechanisms for reducing risk and improving operational efficiency. The information collection obligations imposed by the regulations are necessary to ensure that each SD and MSP maintains the required records of their business activities and an audit trail sufficient to conduct comprehensive and accurate trade reconstruction. The information collections contained in the regulations are also essential to ensuring that SDs and MSPs document their swaps, reconcile their swap portfolios to resolve discrepancies and disputes, and wholly or partially terminate some or all of their outstanding swaps through regular portfolio compression exercises. The collections of information are mandatory.

On February 23, 2022, the Commission published in the Federal Register notice of the proposed extension of these information collections and provided 60 days for public comment on the proposed extension, 87 FR 10175 (“60-Day Notice”) The Commission did not receive any relevant comments on the 60-Day Notice.

Burden Statement: The Commission is revising its estimate of the burdens for the collections to reflect the current number of respondents and estimated burden hours. The respondent burdens for the collections are estimated to be as follows:

• OMB Control No. 3038-0068 (Confirmation, Portfolio Reconciliation, and Portfolio Compression Requirements for Swap Dealers and Major Swap Participants)

Number of Registrants: 107.

Estimated Average Burden Hours per Registrant: 1,274.5.

Estimated Aggregate Burden Hours: 136,371.5.

Frequency of Recordkeeping: As applicable.

• OMB Control No. 3038-0083 (Orderly Liquidation Termination Provision in Swap Trading Relationship Documentation for Swap Dealers and Major Swap Participants)

Number of Registrants: 107.

Estimated Average Burden Hours per Registrant: 270.

Estimated Aggregate Burden Hours: 28,890.

Frequency of Recordkeeping: As applicable.

• OMB Control No. 3038-0088 (Swap Trading Relationship Documentation Requirements for Swap Dealers and Major Swap Participants)

Number of Registrants: 107.

Estimated Average Burden Hours per Registrant: 6,284.

Estimated Aggregate Burden Hours: 672,388.

Frequency of Recordkeeping: As applicable.

There are no capital costs or operating and maintenance costs associated with this collection.

(Authority: 44 U.S.C. 3501 et seq.)

Dated: April 22, 2022.
Robert Sidman,
Deputy Secretary of the Commission.

[FR Doc. 2022-09020 Filed 4-26-22; 8:45 am]

BILLING CODE 6351-01-P